DEPARTMENT OF ENERGY

Federal Energy Regulatory Commission

[Docket No. RP00-183-000]

Colorado Interstate Gas Company; Notice of Tariff Filing

February 24, 2000.

Take notice that on February 17, 2000, Colorado Interstate Gas Company (CIG), tendered for filing to become part of its FERC Gas Tariff, First Revised Volume No. 1, the tariff sheets listed in Appendix A to the filing, to be effective April 1, 2000.

CIG states it is making this filing to broaden its Rate Schedule HUB-1 Service to (i) remove the condition that the transfer of gas would be between third party pipelines to allow nominations from a CIG transportation agreement to a Rate Schedule HUB-1 Agreement, and (ii) provide for the use of compressor capacity in addition to providing the service when no compression is required. CIG's Cheyenne Station Hub currently has 6 interconnecting pipelines. These connections are between CIG and KN Interstate Gas Transmission Company (Pony Express), Public Service Company of Colorado (Front Range), Cheyenne Light, Fuel and Power Company, Trailblazer Pipeline Company and Wyoming Interstate Company, Ltd. The proposed revision to CIG's wheeling-without-compression service will allow CIG customers much more flexibility in transporting gas between these connections at the Cheyenne Station Hub. CIG also proposes to provide a Park and Loan Service option as part of the Rate Schedule HUB-1 service.

CIG states, because the service is scheduled after all other services, it will have no adverse impact on other shippers or other services. The Cheyenne Station Hub Park and Loan Service is proposed to be the same as CIG's existing Park and Loan Service in form and functionality.

CIG states it proposes to charge shippers utilizing Rate Schedule HUB-1 Service, where compression is required, a rate based on the currently effective Interruptible Transportation Rate Schedule TI-1 rate. However, CIG notes that this issue will be fully examined in its next rate case which is required to go into effect on or before October 1, 2001. CIG proposes to offer shippers two options concerning fuel. First, CIG proposes to adjust these rates to include the cost of fuel so shippers will have the option of wheeling through the hub without a requirement of in-kind Cheyenne Hub Fuel reimbursement.

CIG further states its existing customers will not subsidize fuel when this option is chosen as CIG proposes to credit this fuel in its Fuel Reimbursement calculation. Second, CIG proposes to allow shippers the option of in-kind fuel reimbursement. CIG also proposes to charge a separate rate for Park and Loan Service at this location which is the same as CIG's existing Rate Schedule PAL-1 Rate for this service.

CIG further states that copies of this filing have been served on CIG's jurisdictional customers and public bodies.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-09208-09222 for assistance).

David P. Boergers,
Secretary.

[FR Doc. 00-4899 Filed 2-29-00; 8:45 am]

BILLING CODE 6717-01-M